DEPARTMENT OF STATE

[Public Notice 10430]

60-Day Notice of Proposed Information Collection: Iraqi Citizens and Nationals Employed by U.S. Federal Contractors and Grantees

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to August 13, 2018.

ADDRESSES: You may submit comments by any of the following methods:

• Web: Persons with access to the internet may comment on this notice by going to www.Regulations.gov. You can search for the document by entering “Docket Number: DOS-2018-0019” in the Search field. Then click the “Comment Now” button and complete the comment form.

• Email: riveralp@state.gov.

• Regular Mail: Send written comments to: Lea Rivera, PRM/Admissions, 2025 E Street NW, SA-9, 8th Floor, Washington, DC 20522-0908.

• Fax: 202-453-9393.

You must include the DS form number (if applicable), information collection title, and the OMB control number in any correspondence.

FOR FURTHER INFORMATION CONTACT: Direct requests for additional information regarding the collection listed in this notice, including requests for copies of the proposed collection instrument and supporting documents, to Lea Rivera, PRM/Admissions, 2025 E Street NW, SA-9, 8th Floor, Washington, DC 20522-0908, who may be reached on 202-453-9255 or at riveralp@state.gov.

SUPPLEMENTARY INFORMATION:

• Title of Information Collection: Iraqi Citizens and Nationals Employed by Federal Contractors and Grantees.

• OMB Control Number: 1405-0184.

• Type of Request: Revision of a Currently Approved Collection.

• Originating Office: PRM/A.

• Form Number: DS-7655.

• Respondents: Refugee applicants for the U.S. Refugee Admissions Program.

• Estimated Number of Respondents: 50 Department of State contractors, grantees and cooperative agreement partners.

• Estimated Number of Responses: 200.

• Average Time per Response: 30 minutes.

• Total Estimated Burden Time: 100 hours.

• Frequency: On occasion.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The information requested will be used to verify the employment of Iraqi citizens and nationals for the processing and adjudication of other refugee, asylum, special immigrant visa, and other immigration claims and applications.

Methodology

The method for the collection of information will be via electronic submission. The format for compiling the information will be the Department of State's myData application. Contracting officers and Grants officers will distribute the DS-7655 by email to contractors, grantees and cooperative agreement partners under their authority. Respondents complete the form, and email it to their Contracting Officers or Grant Officers.

Kelly Gauger,
Acting Director, Office of Admissions, Bureau of Population, Refugees and Migration, Department of State.

[FR Doc. 2018-12723 Filed 6-13-18; 8:45 am]

BILLING CODE 4710-33-P